DEPARTMENT OF ENERGY

Federal Energy Regulatory Commission

Combined Notice of Filings

Take notice that the Commission has received the following Natural Gas Pipeline Rate and Refund Report filings:

Docket Numbers: RP21-377-000.

Applicants: Gas Transmission Northwest LLC.

Description: Compliance filing Report of Refunds—Coyote Springs Lateral IT Revenue (Nov 2019-Oct 2020).

Filed Date: 1/8/21.

Accession Number: 20210108-5216

Comments Due: 5 p.m. ET 1/21/21.

Docket Numbers: RP21-378-000.

Applicants: Carolina Gas Transmission, LLC.

Description: Compliance filing 2020 Interruptible Revenue Sharing Report.

Filed Date: 1/11/21.

Accession Number: 20210111-5118.

Comments Due: 5 p.m. ET 1/25/21.

Docket Numbers: RP21-379-000.

Applicants: Maritimes & Northeast Pipeline, L.L.C.

Description: § 4(d) Rate Filing: Maritimes & Northeast Pipeline, L.L.C RCA Modifications to be effective 3/1/2021.

Filed Date: 1/11/21.

Accession Number: 20210111-5166.

Comments Due: 5 p.m. ET 1/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2021.
Nathaniel J. Davis, Sr.,
Deputy Secretary.

[FR Doc. 2021-01038 Filed 1-15-21; 8:45 am]

BILLING CODE 6717-01-P